SMALL BUSINESS ADMINISTRATION

[Disaster Declaration #10165 and #10166]

Wyoming Disaster #WY-00002

AGENCY: Small Business Administration.

ACTION: Notice.

SUMMARY: This is a Notice of the Presidential declaration of a major diaster for the State of Wyoming (FEMA-1599-DR), dated 08/22/2005.

Incident: Tornado.

Incident Period: 08/12/2005.

EFFECTIVE DATE: 08/22/2005.

Physical Loan Application Deadline Date: 10/21/2005.

EIDL Loan Application Deadline Date: 05/22/2006.

ADDRESSES: Submit completed loan applications to: Small Business Administration, Disaster Area Office 3, 14925 Kingsport Road, Fort Worth, TX 76155.

FOR FURTHER INFORMATION CONTACT: A. Escobar, Office of Diaster Assistance, U.S. Small Business Administration, 409 3rd Street, Suite 6050, Washington, DC 20416.

SUPPLEMENTARY INFORMATION: Notice is hereby given that as a result of the President's major disaster declaration on 08/22/2005, applications for disaster loans may be filed at the address listed above or other locally announced locations.

The following areas have been determined to be adversely affected by the disaster:

Primary Counties:

Contiguous Counties:

Campbell

Wyoming

Converse, Crook, Johnson, Sheridan, Weston

Montana

Powder River

The Interest Rates are:

| Percent
Homeowners With Credit Availability Elsewhere | 5.375
Homeowners Without Cedit Available Elsewhere | 2.687
Businesses With Credit Available Elsewhere | 6.557
Businesses & Small Agricultural Cooperatives Without Credit Available Elsewhere | 4.000
Other (Including Non-Profit Organizations—With Credit Available Elsewhere | 4.750
Businesses and Non-Profit Organizations Without Credit Available Elsewhere | 4.000

The number assigned to this disaster for physical damage is 10165C and for economic injury is 101660.

(Catalog of Federal Domestic Assistance Numbers 59002 and 59008)
Becky C. Brantley,
Acting Associate Administrator for Disaster Assistance.

[FR Doc. 05-17583 Filed 9-2-05; 8:45 am]

BILLING CODE 8025-01-M